FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
019355NF | ABAD Air, Inc., 14011 N.W. 28th Street, Miami, FL 33172 | July 2, 2008.
020273N | APA Logistics, LLC, 545 Dowd Avenue, Elizabeth, NJ 07201 | July 10, 2008.
018305N | MC Logix, Inc., 18030 S. Figueroa Street, Gardena, CA 90248 | August 12, 2008.
020303N | Panda Logistics USA, Inc., 19600 S. Alameda Street, Suite 1, E. Rancho Dominguez, CA 90221 | August 15, 2008.
018234N | Savant International Logistics Ltd., 11 Broadway, Suite 1068, New York, NY 10004 | July 12, 2008.
015847N | Straightline Logistics, Inc., One Cross Island Plaza, Suite 203-G, Rosedale, NY 11422 | August 14, 2008.
021036F | Tiffany-Michele Nakano, dba Accord Relocations, 67 Lockheed Ave., Las Vegas, NV 89183 | July 23, 2008.
020151F | United Global Logistics, LLC, 1139 E. Jersey Street, Ste. 417, Elizabeth, NJ 07201 | July 2, 2008.
003615N | Unitrans Consolidated Inc., 180-02 Eastgate Plaza, Jamaica, NY 11434 | August 10, 2008.

Sandra L. Kusumoto,
Director, Bureau of Certification and Licensing.

[FR Doc. E8-23162 Filed 9-30-08; 8:45 am]

BILLING CODE 6730-01-P